DEPARTMENT OF COMMERCE

Foreign-Trade Zones Board

[B-83-2016]

Foreign-Trade Zone (FTZ) 24—Pittston, Pennsylvania; Notification of Proposed Production Activity; Brake Parts Inc; (Automotive Parts Kitting); Hazleton, Pennsylvania

Brake Parts Inc (BPI) submitted a notification of proposed production activity to the FTZ Board for its facility in Hazleton, Pennsylvania. The notification conforming to the requirements of the regulations of the FTZ Board (15 CFR 400.22) was received on November 30, 2016.

A separate application for subzone designation at the BPI facility was submitted and will be processed under Section 400.31 of the Board's regulations. The facility is used for the kitting of aftermarket automotive parts. Pursuant to 15 CFR 400.14(b), FTZ activity would be limited to the specific foreign-status materials and components and specific finished products described in the submitted notification (as described below) and subsequently authorized by the FTZ Board.

Production under FTZ procedures could exempt BPI from customs duty payments on the foreign-status components used in export production. On its domestic sales, BPI would be able to choose the duty rates during customs entry procedures that apply to master cylinder kits, brake drum kits, brake pad kits, brake shoe kits and brake caliper kits (duty rate ranges from free to 2.5%) for the foreign-status inputs noted below. Customs duties also could possibly be deferred or reduced on foreign-status production equipment.

The components and materials sourced from abroad include: Rubber O-rings; rubber seals; rubber brake components; paperboard corrugated boxes; steel hex bolts; steel bolts; steel brake clips; galvanized cast iron brake brackets; master cylinders; brake drums; brake pads; brake shoes; and, wheel cylinders (duty rate ranges from free to 2.5%).

Public comment is invited from interested parties. Submissions shall be addressed to the Board's Executive Secretary at the address below. The closing period for their receipt is January 17, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Christopher Kemp at Christopher.Kemp@trade.gov or (202) 482-0862.

Dated: December 1, 2016.
Andrew McGilvray,
Executive Secretary.

[FR Doc. 2016-29351 Filed 12-6-16; 8:45 am]

BILLING CODE 3510-DS-P